NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173)

Dates/Time: June 19, 2012, 1:00 p.m.-6:00 p.m.; June 20, 2012, 9:00 a.m.-3:00 p.m.

Place: National Science Foundation (NSF), 4201 Wilson Boulevard, Arlington, VA 22230.

To help facilitate your entry into the building, contact the individual listed below. Your request to attend this meeting must be received by email (kmack@nsf.gov) on or prior to June 12, 2012.

Type of Meeting: Open.

Contact Person: Dr. Kelly Mack, Program Officer and CEOSE Executive Secretary, Division of Human Resource Development, Directorate for Education and Human Resources, National Science Foundation, 4201 Wilson Boulevard, Arlington, VA 22230. Telephone Number: (703) 292-8575 kmack@nsf.gov.

Minutes: Meeting minutes and other information may be obtained from the Executive Secretary at the above address or the Web site at http://www.nsf.gov/od/ceose/index.jsp.

Purpose of Meeting: To study data, programs, policies, and other information pertinent to the National Science Foundation and to provide advice and recommendations concerning broadening participation in science and engineering.

Agenda

Tuesday, June 19, 2012

Opening Statement by the CEOSE Chair

Feature Presentation:

• Broadening Participation Programs and Initiatives in the Geosciences Directorate: Dr. Tim Kileen (Assistant Director, GEO, NSF).

Discussions and Reports:

• Concurrence on the minutes of the CEOSE February 28-29, 2012 meeting;

• Report of CEOSE Executive Officer meeting with Dr. Suresh;

• Report of CEOSE liaisons to NSF Directorate Committees on NSF Advisory Committee Meetings;

• CEOSE 2011-12 Biennial Report to Congress;

• Discussion with Dr. Subra Suresh, Director, NSF.

Wednesday, June 20, 2012

Opening Statement by the CEOSE Chair

Feature Presentation:

• NSF Executive Liaison Report: Dr. Wanda Ward (Senior Advisor, NSF);

• Implementation of Merit Review Criteria: Dr. Joanne Tornow (Deputy Assistant Director, SBE, NSF);

• Novel Approaches to Broadening Participation: Dr. Ashanti Johnson (Executive Director, Institute for Broadening Participation);

• Broadening Participation in STEM-Resource Network/Broadening Participation Research: Dr. Muriel Poston (Division Director, HRD, EHR, NSF).

Dated: May 23, 2012.
Susanne Bolton,
Committee Management Officer.

[FR Doc. 2012-12955 Filed 5-29-12; 8:45 am]

BILLING CODE 7555-01-P